SOCIAL SECURITY ADMINISTRATION

Agency Information Collection Activities: Notice of Office of Management and Budget (OMB) Approval, Proposed Request and Comment Request

As required by the Paperwork Reduction Act of 1995 (44 U.S.C. 3507), the Social Security Administration (SSA) is providing notice of OMB's approval of the information collections in the 20 CFR 422.527, Private Printing and Modification of Prescribed Application and Other Forms. In accordance with the Paperwork Reduction Act, persons are not required to respond to an information collection unless it displays a valid Office of Management and Budget control number. The OMB Number is 0960-0663, which expires December 31, 2005.

The Social Security Administration (SSA) publishes a list of information collection packages that will require clearance by the Office of Management and Budget (OMB) in compliance with Pub. L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

OMB:

Office of Management and Budget, Attn: Desk Officer for SSA, New Executive Office Building, Room 10235, 725 17th St., NW., Washington, DC 20503, Fax: 202-395-6974.

SSA:

Social Security Administration, DCFAM, Attn: Reports Clearance Officer, 1338 Annex Bldg., 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Disability Report—20 CFR 404.1512 and 416.912, 20 CFR 404.916(c) and 416.1416(c)—Appeal—0960-0144

SSA uses form SSA-3441 to secure updated resource and condition information from claimants seeking reconsideration of denied disability benefits. The claimant also has the option of providing the information during a personal interview or through SSA's Internet application. This information assists the State Disability Determination Services (DDS) and Administrative Law Judges (ALJ) in preparing for the appeals and hearings and in issuing a decision on whether or not an individual is entitled to or continues to be entitled to disability benefits. SSA requests completion of the SSA-3441 when individuals appeal denial of Social Security Disability Income (SSDI) and Supplemental Security Income (SSI) benefits following a previous denial. The respondents are applicants for reconsideration of initial denial of disability benefits; reconsideration of disability cessation and individuals requesting hearings before an ALJ.

Type of Request: Revision of a currently approved OMB information collection.

SSA will collect this information using both the traditional paper format and via electronic formats through SSA information gathering systems and an online Internet collection as follows:

| Number of respondents | Frequency of response | Average burden per response (in minutes) | Estimated annual burden
SSA-3441 (Paper Form) | 1,079,338 | 1 | 30 | 539,669
Electronic Disability Collection System (EDCS) | 16,790 | 1 | 30 | 8,395
I3441 (Internet Form) | 16,690 | 1 | 60 | 16,690
Total Respondents— | 1,112,818 |  |
Total Burden Hours— | 564,754 |  |

2. Driver's License Signature Proof-of-Concept Study—20 CFR 404.610—0960-NEW

SSA plans to explore the feasibility of providing an electronic alternative to the traditional pen-and-ink signature by conducting a Proof-of-Concept (POC) test using an individual's driver's license or State-issued identity card number as an electronic signature. If the applicant voluntarily decides to provide the driver's license or State-issued identity card number, an SSA employee will verify the validity of the number with the issuing State motor vehicle agency by submitting the information electronically to the State that issued the license through a connection with the American Association of Motor Vehicle Administrators (AAMVA). If the State confirms that the number is valid and the name provided matches that on its records, the SSA interviewer will annotate SSA's electronic claims record that the application was signed by electronic signature. The respondents to this collection are applicants that apply for Social Security Retirement benefits within a test State and opt to participate in the POC.

Type of Request: New information collection.

Number of Respondents: 93,000.

Frequency of Response: 1.

Average Burden Per Response: 3 minutes.

Estimated Annual Burden: 4,650 hours.

3. Request for Workers' Compensation/Public Disability Information—20 CFR, Subpart E, 404.408—0960-0098

SSA uses form SSA-1709 to request and/or verify information about workers' compensation or public disability benefits given to Social Security disability recipients so that the proper adjustment is made to their monthly benefits. The respondents are Federal, State, and local agencies administering Workers' Compensation or public disability benefits, private workers, insurance carriers and public or private self-insured companies.

Type of Request: Extension of an OMB-approved information collection:

Number of Respondents: 140,000.

Frequency of Response: 1.

Average Burden Per Response: 15 minutes.

Estimated Annual Burden: 35,000 hours.

4. Self-Employment/Corporate Officer Questionnaire—20 CFR 404.435(e) 404.446—0960-0487

Form SSA-4184 is used to develop earnings data and corroborate the claimant's allegations of retirement when the claimant is self-employed or a corporate officer. The information collected is used to determine benefit amounts. The respondents are self-employed individuals and corporate officers.

Type of Request: Extension of an OMB-approved information collection.

Number of Respondents: 20,000.

Frequency of Response: 1.

Average Burden Per Response: 20 minutes.

Estimated Annual Burden: 6,667 hours.

5. Claim for Amount Due in the Case of a Deceased Beneficiary—20 CFR 405.503(b)—0960-0101

Section 204(d) of the Social Security Act provides that if a beneficiary dies before payment of Social Security benefits has been completed, the amount due will be paid to the persons meeting specified qualifications. The information collected on Form SSA-1724 is used by SSA to determine whether an individual is entitled to the underpayment. The respondents are applicants for the amounts of an underpayment of a deceased beneficiary.

Type of Request: Revision of a currently approved OMB information collection.

Number of Respondents: 300,000.

Frequency of Response: 1.

Average Burden Per Response: 10 minutes.

Estimated Annual Burden: 50,000 hours.

II. The information collection listed below has been submitted to OMB for clearance. Your comments on this information collection would be most useful if received by OMB and SSA within 30 days from the date of this publication. You can obtain a copy of the OMB clearance package by calling the SSA Reports Clearance Officer at 410-965-0454, or by writing to the address listed above.

Action: Comment Request

Statement of Income and Resources—0960-0124

The information collected on form SSA-8010-BK is used in Supplemental Security Income (SSI) claims and redeterminations to obtain information about the income and resources of: Ineligible spouses, parents/spouses of parents, and children living in the claimant's/beneficiary's household; essential persons; and sponsors of aliens (including spouses of sponsors who live with the sponsor). The information is needed to make initial or continuing eligibility determinations for SSI claimants/beneficiaries who are subject to deeming. If eligible, the information is used to determine the amount of the SSI payment. The respondents are persons whose income and/or resources must be considered in determining the eligibility of SSI claimants or beneficiaries.

Type of Request: Extension of an OMB-approved information collection.

Number of Respondents: 341,000.

Frequency of Response: 1.

Average Burden Per Response: 25 minutes.

Estimated Annual Burden: 142,083 hours.

Dated: March 18, 2003.
Elizabeth A. Davidson,
Reports Clearance Officer, Social Security Administration.

[FR Doc. 03-6890 Filed 3-21-03; 8:45 am]

BILLING CODE 4191-02-P